DEPARTMENT OF ENERGY

Office of Energy Efficiency and Renewable Energy

10 CFR Part 430

[Docket Number EE-RM/TP-99-500]

RIN 1904-AB04

Energy Conservation Program for Consumer Products: Test Procedure for Dishwashers; Correction

AGENCY: Office of Energy Efficiency and Renewable Energy, Department of Energy.

ACTION: Final rule; correction.

SUMMARY: The Department of Energy (DOE) published a final rulemaking amending its test procedure for dishwashers on December 18, 2001. This document corrects the test procedure in the amendatory language of that rulemaking and makes revisions to a reference to an appendix section and to the equations for determining the water energy consumption per cycle using gas-heated or oil-heated water.

EFFECTIVE DATE: June 17, 2002.

FOR FURTHER INFORMATION CONTACT: Barbara Twigg, U.S. Department of Energy, Office of Energy Efficiency and Renewable Energy, EE-41, 1000 Independence Avenue, SW., Washington, DC 20585-0121, (202) 586-8714, email: barbara.twigg@ee.doe.gov, or Francine Pinto, Esq., U.S. Department of Energy, Office of General Counsel, GC-72, 1000 Independence Avenue, SW., Washington, DC 20585-0121, (202) 586-7432, email: francine.pinto@hq.doe.gov.

SUPPLEMENTARY INFORMATION: This document corrects the test procedure in a final rule published in the Federal Register on December 18, 2001 (66 FR 65091), regarding Energy Conservation Program for Consumer Products: Test Procedure for Dishwashers. This correction revises a reference to an appendix section and revises the equations for determining the water energy consumption per cycle using gas-heated or oil-heated water.

In rule document FR Doc. 01-18429, appearing on page 65091, in the issue of Tuesday, December 18, 2001, the following corrections are made:

PART 430—[CORRECTED]

§ 430.23 [Corrected]

1. On page 65096 in the first column, § 430.23(c)(1)(ii)(B) is corrected to read as follows:

(B) For dishwashers not having a truncated normal cycle,

EAOC = N × De × En

where, N and De are defined in paragraph (c)(1)(i) of this section,

En= the total electrical energy consumption per cycle for the normal cycle as defined in section 1.5 of appendix C, in kilowatt-hours and determined according to section 5.4 of appendix C to this subpart,

Et= the total electrical energy consumption per cycle for the truncated normal cycle, in kilowatt-hours and determined according to section 5.4 of appendix C to this subpart.”

2. On page 65097 in the second column, in Appendix C to Subpart B of Part 430, Sections 5.3, 5.3.1, and 5.3.2 are corrected to read as follows:

“5.3 Water energy consumption per cycle using gas-heated or oil-heated water. Determine the water energy consumption for dishwashers according to sections 5.3.1 and 5.3.2 of this Appendix. Use the notation Wn for a test of the normal cycle or Wt for a test of the truncated normal cycle. Note that gas-heated or oil-heated water was used.

5.3.1 Dishwashers that operate with a nominal 140° F inlet water temperature, only. For each test cycle, calculate the water energy consumption using gas-heated or oil-heated water, W, expressed in btu's per cycle and defined as:

W = V × T × C/e

where,

V = reported water consumption in gallons per cycle, as measured in section 4.3 of this Appendix,

T = nominal water heater temperature rise = 90° F,

C = specific heat of water in btu's per gallon per degree Fahrenheit = 8.2,

e = nominal gas or oil water heater recovery efficiency = 0.75.

5.3.2 Dishwashers that operate with a nominal inlet water temperature of 120° F. For each test cycle, calculate the water energy consumption using gas heated or oil heated water, W, expressed in btu's per cycle and defined as:

W = V × T × C/e

where,

V = reported water consumption in gallons per cycle, as measured in section 4.3 of this Appendix,

T = nominal water heater temperature rise = 70° F,

C = specific heat of water in btu's per gallon per degree Fahrenheit = 8.2,

e = nominal gas or oil water heater recovery efficiency = 0.75. “

Issued in Washington, DC, on April 26, 2002.
David K. Garman,
Assistant Secretary for Energy Efficiency and Renewable Energy.

[FR Doc. 02-10695 Filed 4-30-02; 8:45 am]

BILLING CODE 6450-01-P